DEPARTMENT OF HOUSING AND URBAN DEVELOPMENT

[Docket No. FR-5921-N-12]

Implementation of the Privacy Act of 1974, as Amended; Amended System of Records Notice, Asset Disposition and Management System (ADAMS)

AGENCY: Office of Housing, HUD.

ACTION: Amended system of records notice.

SUMMARY: In accordance with the requirements of the Privacy Act of 1974 (5 U.S.C. 552a (e)(4)), as amended, the Department's Office of Housing propose to amend and reissue a current system of records notice (SORN): Asset Disposition and Management System (ADAMS). The notice amendment includes administrative updates to refine details published under the categories of individuals covered, categories of records, authority for maintenance, storage, safeguards, retention and disposal, system manager and address, notification procedures, records access, contesting records procedures, and records source categories. These sections are amended to refine previously published information about the system of records. The existing scope, objectives, and business processes in place for the program remain unchanged. The amended SORN deletes and supersedes the ADAMS SORN published in the Federal Register on February 26, 2014 at 79 FR 10829-10830. The updated notice will be included in the Department's inventory of SORNs.

DATES: Effective Date: This notice action shall be effective immediately, which will become effective September 19, 2016.

[Comments Due Date]: September 19, 2016.

ADDRESSES: Interested persons are invited to submit comments regarding this notice to the Rules Docket Clerk, Office of General Counsel, Department of Housing and Urban Development, 451 Seventh Street SW., Room 10276, Washington, DC 20410. Communications should refer to the above docket number and title. Faxed comments are not accepted. A copy of each communication submitted will be available for public inspection and copying between 8 a.m. and 5 p.m. weekdays at the above address.

FOR FURTHER INFORMATION CONTACT: Helen Goff Foster, Chief Privacy Officer/Senior Agency Official for Privacy, 451 Seventh Street SW., Room 10139, Washington, DC 20410, telephone number 202-402-6838 (this is not a toll-free number). Individuals who are hearing- and speech-impaired may access this number via TTY by calling the Federal Relay Service at 800-877-8339 (this is a toll-free number).

SUPPLEMENTARY INFORMATION: This notice updates and refines previously published information pertaining to ADAMs in a clear and easy to read format. The amended notice conveys administrative updates to the notice's categories of individuals covered, categories of records, routine uses, storage, safeguards, retention and disposal, system manager and address, notification procedures, records access and contesting procedures, and records source captions. The Privacy Act places on Federal agencies principal responsibility for compliance with its provisions, by requiring Federal agencies to safeguard an individual's records against an invasion of personal privacy; protect the records contained in an agency system of records from unauthorized disclosure; ensure that the records collected are relevant, necessary, current, and collected only for their intended use; and adequately safeguard the records to prevent misuse of such information. This notice demonstrates the Department's focus on industry best practices and laws that protect interest such as personal privacy and law enforcement records from inappropriate release. This notice states the name and location of the record system, the authority for and manner of its operations, the categories of individuals that it covers, the type of records that it contains, the sources of the information for the records, the routine uses made of the records, and the types of exemptions in place for the records. The notice also includes the business address of the HUD officials who will inform interested persons of how they may gain access to and/or request amendments to records pertaining to themselves.

The amended notice does not meet threshold requirements set forth by Privacy Act, 5 U.S.C. 552a(r). Therefore, a report was not submitted to the Office of Management and Budget (OMB), the Senate Committee on Homeland Security and Governmental Affairs, and the House Committee on Oversight and Government Reform.

Authority: 5 U.S.C. 552a; 88 Stat. 1896; 42 U.S.C. 3535(d).

Dated: August 12, 2016.
Helen Goff Foster,
Chief Privacy Officer/Senior Agency Official for Privacy.

System of Records No.:

HSNG.SF/HUF.01.

SYSTEM NAME:

Asset Disposition and Management System (ADAMS)—P260.

SYSTEM LOCATION:

The physical system is hosted at the contractor's primary and disaster recovery sites: Yardi Systems, Inc., 430 South Fairview Avenue, Santa Barbara, CA 93117, Sunguard, 1001 E. Campbell Road, Richardson, TX 75081, and CenturyLink, 200 N. Nash Street, El Segundo, CA 90245. The above locations host the Department's design and development, testing and production, and disaster recovery instances for ADAMS. ADAMS is accessible at workstations located at the following locations: Department of Housing and Urban Development Headquarters, 451 Seventh Street SW., Washington, DC 20410, and at HUD field and regional office locations: ¹ HUD Atlanta Homeownership Center, Five Points Plaza, 40 Marietta Street, Atlanta, GA 30303, HUD Philadelphia Homeownership Center, The Wanamaker Building, 100 Penn Square East, Philadelphia, PA 19107, HUD Denver Homeownership Center, Processing and Underwriting, 20th floor, 1670 Broadway, Denver, CO 80202, HUD Santa Ana Homeownership Center, Santa Ana Federal Building, 34 Civic Center Plaza, Room 7015, Santa Ana, CA 92701.

¹ http://portal.hud.gov/hudportal/documents/huddoc?id=append2.pdf.

CATEGORIES OF INDIVIDUALS COVERED BY THE SYSTEM:

Individuals covered by ADAMS are: (1) Homebuyers (mortgagors) of REO properties, (2) successful bidders (purchasers) of HUD Real Estate Owned (REO) properties, (3) HUD Single Family Property Disposition Program Management and Marketing (M&M) contractors. Successful bidders are referred to as purchasers on the form HUD-2548, Sales Contract Property Disposition Program, and include the following groups: (1) FHA-approved real estate brokers, (2) Investors, (3) Registered, eligible non-profit organizations, (4) Public housing agencies, and (5) Other government agencies (State and local). The M&M contractor group include: (1) Mortgagee Compliance Managers (MCM), (2) Field Service Managers (FSM), and (3) Asset Managers (AM).

CATEGORIES OF RECORD IN THE SYSTEM:

Categories of records in the system include:

(1) Homebuyers Information: Name, address, Social Security number (SSN), and race/ethnicity characteristics. This information is also gathered by non-profit and government submissions.

(2) Successful Bidders Information: Business name and address, Employer Identification Number (EIN), Tax Identification Number (TIN), or SSN, broker's phone number, SAMS name and address identification number (NAID), FHA case number, property address, date purchaser(s) signed sales contract (Form HUD-9548), date sales contract accepted by HUD, purchase price; purchaser type, appraisal information, tax payments, sales offer information, HUD-1, contract information, vendor information, and financial transactions.

(3) Additional Nonprofit and Government (state and local) Information: Internal Revenue Service (IRS) letters for determination of nonprofit status, articles of Organization, mortgage notes, W-9, SAMS-1111, property report documentation (Median Income certification).

(4) Management and Marketing (M&M) Contractors Information: Business name and address; EIN, TIN, or SSN; phone number; SAMS NAID; FHA case number; property address; date purchaser(s) signed sales contract (Form HUD-9548); date sales contract accepted by HUD; purchase price; purchaser type; mortgage notes, W-9, SAMS-1111, property report documentation (Median Income certification) and limited information about the homebuyers: Name, address, SSN, and race/ethnicity characteristics.

In addition, ADAMS contains files on property appraisals, tax payments, purchase sales offer information, HUD-1, purchase contract information, vendor information, and property preservation and protection invoice information, FHA property listings, and property agent contact information.

AUTHORITY FOR MAINTENANCE OF THE SYSTEM:

National Housing Act as amended (12 U.S.C. 1702 et seq.), Title 24 Code of Federal Regulations Part 200.194, Placement of Nonprofit Organization on Nonprofit Organization Roster, The Housing and Community Development Act of 1987, 42 U.S.C. 3543, National Housing Act, Section 235(b), Public Law 479, 48 Stat. 12 U.S.C. 1701 et seq., Section 165 (a) of the Housing and Community Development Act of 1987, Public Law 100-242, Section 904 of the Stewart B. McKinney Homeless Assistance Amendments Act of 1988, Public Law 100-628.

PURPOSE:

ADAMS is a case management system for HUD owned and HUD managed single-family properties under HUD's Property Disposition and REO Discount Sales Programs. ADAMS was introduced into production in 2010. ADAMS supports HUD Headquarters and Homeownership Center (HOC) staff and HUD's Management and Marketing (M&M) contractors to track single-family properties from their acquisition by HUD through the steps necessary to resell the properties. In addition, M&M contractors manage the HUD Property Disposition Sales Program and the REO Discount Sales Programs (Good Neighbor Next Door (GNND), Asset Control Area (ACA) Sales, and $1 Homes). ADAMS is used to:

• Obtain, store, and display case-level information about properties acquired by or in custody of HUD.

• Track events and information describing the status of real property from the date of conveyance to the Department through several stages of management, marketing, and disposition, to final reconciliation of sale proceeds.

• Retain data relative to contracts, contractors, and vendors that support the property disposition program.

• Calculate property management, marketing, and incentive fees earned by M&M contractors, closing agents, and special property inspection (SPI) contractors, and generate disbursement transmittals.

• Calculate M&M contractor payment incentives and disincentives.

• Generate disbursement transmittals for payment of other property-related expenses such as pass-through expenses and property taxes.

• Verify eligibility to participate in the REO program.

• Validate that no conflicts of interest exist among non-profit/other government agencies' board members, employees, business partners, and homebuyers.

• Validate that discounted HUD-REO homes were sold to eligible buyers.

• Determine that participating agencies have not exceeded profit limits on the re-sale of HUD-REO homes purchased through the discount program.

• Support Good Neighbor Next Door Sales Programs (GNND) compliance control tasks for pre-sales/pre-registration, sales/pre-closing, and post-closing.

ROUTINE USES OF RECORDS MAINTAINED IN THE SYSTEM, INCLUDING CATEGORIES OF USERS AND THE PURPOSE OF SUCH USES:

In addition to those disclosures generally permitted under 5 U.S.C. Section 552a(b) of the Privacy Act, all or a portion of the records or information contained in this system may be disclosed outside HUD as a routine use pursuant to 5 U.S.C. 552a(b)(3) as follows:

1. To appropriate agencies, entities, and persons to the extent such disclosures are compatible with the purpose for which the records in this system were collected, as set forth by Appendix I ²—HUD's Routine Uses Inventory published in the Federal Register.

² http://portal.hud.gov/hudportal/documents/huddoc?id=routine_use_inventory.pdf.

2. To General Accounting Office (GAO) for audit purposes.

3. To Management and Marketing contractors for processing the sale of HUD Homes.

4. To Federal Bureau of Investigation (FBI) to investigate possible fraud revealed in the course of servicing efforts to allow HUD to protect the interest of the Secretary.

5. To Appropriate agencies, entities, and persons when:

a. HUD suspects or has confirmed that the security or confidentiality of information in a system of records has been compromised;

b. HUD has determined that as a result of the suspected or confirmed compromise there is a risk of harm to economic or property interests, identity theft or fraud, or harm to the security or integrity of systems or programs (whether maintained by HUD or another agency or entity) that rely upon the compromised information;

c. HUD determines that the disclosure made to such agencies, entities, and persons is reasonably necessary to assist in connection with HUD's efforts to respond to the suspected or confirmed compromise and prevent, minimize, or remedy such harm for purposes of facilitating responses and remediation efforts in the event of a data breach.

6. To the National Archives and Records Administration (NARA) or to the General Services Administration for records management inspections conducted under 44 U.S.C. 2904 and 2906.

7. To a congressional office from the record of an individual in response to an inquiry from that congressional office made at the request of the individual to whom the record pertains.

POLICIES AND PRACTICES FOR STORING, RETRIEVING, ACCESSING, RETAINING, AND DISPOSING OF RECORDS IN THE SYSTEM:

Storage:

Records in this system are stored electronically in secure facilities. Electronic files are stored in case files on secure servers. Electronic files are replicated at a disaster recovery offsite location in case of loss of computing capability or other emergency at the primary facility. ADAMS does not have paper records.

RETRIEVABILITY:

Records are retrieved using computer search by the FHA case number, property address (including other geographical characteristics such as contract area, property state/city/county/zip code, Homeownership Center), or contractor ID or name, or non-profit/government agency name.

SAFEGUARDS:

Records are maintained in a secured computer network. Access is limited to authorized personnel. ADAMS access requires two levels of logins to access the system. The first login uses HUD Siteminder system to verify that the user has active HUD authorization. The second login uses ADAMS internal security system to set permissions for data access and system functionality.

RETENTION AND DISPOSAL:

In accordance with General Records Schedule 1.1, Financial Management and Reporting Records, Items 010 and 011, the records are maintained for six years or when business use ceases. Paper records are not in use. Backup and Recovery digital media will be destroyed or otherwise rendered irrecoverable per NIST SP 800-88 “Guidelines for Media Sanitization” (September 2006).

SYSTEM OWNER AND ADDRESS:

Ivery Himes, Director, Office of Single Family Asset Management, Room 9178, 451 Seventh Street SW., Washington, DC 20410.

NOTIFICATION AND RECORD ACCESS PROCEDURES:

For information, assistance, or inquiry about the existence of records, contact Helen Goff Foster, Chief Privacy Officer/Senior Agency Official for Privacy, 451 Seventh Street SW., Room 10139, Washington, DC 20410, telephone number (202) 402-6838. When seeking records about yourself from this system of records or any other HUD system of records, your request must conform with the Privacy Act regulations set forth in 24 CFR part 16. You must first verify your identity, meaning that you must provide your full name, current address, and date and place of birth. You must sign your request, and your signature must either be notarized or submitted under 28 U.S.C. 1746, a law that permits statements to be made under penalty of perjury as a substitute for notarization. In addition, your request should:

a. Explain why you believe HUD would have information on you.

b. Identify which Office of HUD you believe has the records about you.

c. Specify when you believe the records would have been created.

d. Provide any other information that will help the FOIA staff determine which HUD office may have responsive records.

If your request is seeking records pertaining to another living individual, you must include a statement from that individual certifying their agreement for you to access their records. Without the above information, the HUD FOIA Office may not be able to conduct an effective search, and your request may be denied due to lack of specificity or lack of compliance with applicable regulations.

CONTESTING RECORD PROCEDURES:

The Department's rules for contesting contents of records and appealing initial denials appear in 24 CFR part 16, Procedures for Inquiries. Additional assistance may be obtained by contacting Helen Goff Foster, Chief Privacy Officer/Senior Agency Official for Privacy, 451 Seventh Street SW., Room 10139, Washington, DC 20410, or the HUD Departmental Privacy Appeals Officers, Office of General Counsel, Department of Housing and Urban Development, 451 Seventh Street SW., Washington, DC 20410.

RECORD SOURCE CATEGORIES:

Purchasers, Non-profit and State, local Government entities, M&M contractors, and HUD employees, HUD Form 9548.

EXEMPTIONS FROM CERTAIN PROVISIONS OF THE ACT:

None.

[FR Doc. 2016-19870 Filed 8-18-16; 8:45 am]

BILLING CODE 4210-67-P